DEPARTMENT OF HOMELAND SECURITY

Federal Emergency Management Agency

44 CFR Part 67

[Docket ID FEMA-2011-0002; Internal Agency Docket No. FEMA-B-1100 and FEMA-B-1222]

Proposed Flood Elevation Determinations

AGENCY: Federal Emergency Management Agency, DHS.

ACTION: Proposed rule; correction.

SUMMARY: On May 25, 2010 and October 6, 2011, FEMA published in the Federal Register a proposed rule that contained an erroneous table. This notice provides corrections to those tables, to be used in lieu of the information previously published. The table provided here represents the flooding sources, location of referenced elevations, effective and modified elevations, and communities affected for Iron County, Utah, and Incorporated Areas. Specifically, it addresses the following flooding sources: Coal Creek, Coal Creek Overflow, Coal Creek to Fiddlers Split, Cross Hollow, Greens Lake, North Airport Canal, Old Quichapa Creek Lower, Old Quichapa Creek Upper, Parowan Creek, Quichapa Channel, Quichapa West, Red Creek, Shurtz Creek, Shurtz Creek Shallow, Squaw Creek and Water Canyon.

DATES: Comments are to be submitted on or before March 13, 2013.

ADDRESSES: You may submit comments, identified by Docket No. FEMA-B-1100 and FEMA-B-1222, to Luis Rodriguez, Chief, Engineering Management Branch, Federal Insurance and Mitigation Administration, Federal Emergency Management Agency, 500 C Street SW., Washington, DC 20472, (202) 646-4064 or (email) luis.rodriguez3@dhs.gov.

FOR FURTHER INFORMATION CONTACT: Luis Rodriguez, Chief, Engineering Management Branch, Federal Insurance and Mitigation Administration, Federal Emergency Management Agency, 500 C Street SW., Washington, DC 20472, (202) 646-4064 or (email) luis.rodriguez3@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 29238 and 76 FR 62006, in the May 25, 2010 and October 6, 2011, issues of the Federal Register, respectively, FEMA published a table under the authority of 44 CFR 67.4. The tables, entitled “Iron County, Utah, and Incorporated Areas” addressed the following flooding sources: Coal Creek, Coal Creek Overflow, Coal Creek to Fiddlers Split, Cross Hollow, Greens Lake, North Airport Canal, Old Quichapa Creek Lower, Old Quichapa Creek Upper, Parowan Creek, Quichapa Channel, Quichapa West, Red Creek, Shurtz Creek, Shurtz Creek Shallow, Squaw Creek and Water Canyon. The tables contained inaccurate information as to the location of referenced elevation, effective and modified elevation in feet, and/or communities affected for that flooding source. In this notice, FEMA is publishing a table containing the accurate information, to address these errors. The information provided below should be used in lieu of that previously published in both tables.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Iron County, Utah, and Incorporated Areas
Coal Creek | Approximately 0.8 mile downstream of West 6600 North | None | +5542 | City of Cedar City, Unincorporated Areas of Iron County.
| Approximately 680 feet upstream of the Squaw Creek confluence | None | +5889
Coal Creek Overflow | Approximately 1,750 feet downstream of West 3200 North | None | +5502 | Unincorporated Areas of Iron County.
| Approximately 480 feet downstream of Bulldog Road | None | +5656
Coal Creek to Fiddlers Split | Approximately 370 feet upstream of Midvalley Road | None | +5500 | City of Cedar City, Unincorporated Areas of Iron County.
| Approximately 925 feet upstream of West 3000 North | None | +5554
Cross Hollow | Approximately 250 feet downstream of Cross Hollow Road | None | +5750 | City of Cedar City.
| At the upstream side of I-15 | None | +6000
Greens Lake | At the upstream side of I-15 | None | +6000 | City of Cedar City, Unincorporated Areas of Iron County.
| Approximately 0.66 miles upstream of Fir Street | None | +6046
North Airport Canal | Approximately 175 feet upstream of North Bauer Road West | None | +5593 | City of Cedar City.
| Approximately 125 feet downstream of Airport Road | None | +5611
Old Quichapa Creek Lower | Approximately 0.6 mile downstream of South 6100 West | None | +5462 | Unincorporated Areas of Iron County.
| At the Old Quichapa Creek Upper confluence | None | +5494
Old Quichapa Creek Upper | At the Old Quichapa Creek Lower confluence | None | +5494 | Unincorporated Areas of Iron County.
| Approximately 750 feet upstream of 400 South | None | +5521
Parowan Creek | At the upstream side of I-15 | None | +5806 | City of Parowan.
| Approximately 1.41 miles upstream of Old Highway 91 | None | +6237
Quichapa Channel | Approximately 0.53 mile downstream of 800 South | None | +5458 | City of Cedar City, Unincorporated Areas of Iron County.
| At the downstream side of I-15 | +5683 | +5682
Quichapa West | Approximately 0.4 mile downstream of South 6400 West | None | +5466 | Unincorporated Areas of Iron County.
| Approximately 740 feet downstream of 5300 West | None | +5493
Red Creek | Approximately 0.36 mile downstream of Center Street | None | +5900 | Unincorporated Areas of Iron County.
| Approximately 40 feet upstream of Red Creek Road | None | +6061
Shurtz Creek | At the Old Quichapa Creek Lower confluence | None | +5472 | City of Cedar City, Unincorporated Areas of Iron County.
| Approximately 485 feet downstream of Triple Road | None | +5772
Shurtz Creek Shallow | Approximately 1,800 feet downstream of 6100 West | None | +5462 | Unincorporated Areas of Iron County.
| Approximately 75 feet downstream of I-15 | None | +5693
Squaw Creek | At the Coal Creek confluence | None | +5876 | City of Cedar City.
| Approximately 0.71 mile upstream of 200 South Street | None | +6085
Water Canyon | Approximately 60 feet downstream of 100 West Street | None | +5850 | Unincorporated Areas of Iron County.
| Approximately 0.34 mile upstream of Main Street | None | +5918
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Cedar City
Maps are available for inspection at 10 North Main Street, Cedar City, UT 84720.
City of Parowan
Maps are available for inspection at 5 South Main, Parowan, UT 84761.
Unincorporated Areas of Iron County
Maps are available for inspection at the Iron County Engineering Department, 82 North 100 East , Suite 104, Cedar City, UT 84720.

(Catalog of Federal Domestic Assistance No. 97.022, “Flood Insurance.”)

Dated: September 3, 2012.
Sandra K. Knight,
Deputy Associate Administrator for Mitigation, Department of Homeland Security, Federal Emergency Management Agency.

[FR Doc. 2012-29953 Filed 12-12-12; 8:45 am]

BILLING CODE 9110-12-P